ENVIRONMENTAL PROTECTION AGENCY

[OPPT-2005-0039; FRL-7739-9]

Fifty-Sixth Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its 56th ITC Report to the Administrator of EPA on September 15, 2005. In the 56th ITC Report, which is included with this notice, the ITC is revising the TSCA section 4(e) Priority Testing List by adding 5 High Production Volume (HPV) orphan chemicals and 2 tungsten compounds and removing 28 HPV orphan chemicals, 3 pyridinamine compounds, 6 indium compounds, and 6 vanadium compounds. The ITC is requesting that EPA add the 5 HPV orphan chemicals and 2 tungsten compounds to the TSCA section 8(a) Preliminary Assessment Information Reporting (PAIR) rule and the 5 HPV orphan chemicals to the TSCA section 8(d) Health and Safety Data Reporting (HaSDR) rule. To facilitate the efforts of EPA, other Federal and State agencies, interested stakeholders, and members of the public in obtaining basic health effects and environmental data on HPV chemicals, the ITC conducted a December 2004 Data-Availability Study of 235 substances that were HPV chemicals in the 1998 and 2002 Inventory Update Rules (IURs), but not in the 1990 or 1994 IURs. The study is discussed and the list of 235 substances is appended to this 56th ITC Report.

DATES: Comments must be received on or before November 23, 2005.

ADDRESSES: Comments, identified by docket identification (ID) number OPPT-2005-0039, may be submitted electronically, by mail, or through hand delivery/courier. Follow the detailed instructions as provided in Unit I. of the SUPPLEMENTARY INFORMATION.

FOR FURTHER INFORMATION CONTACT: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the person listed under FOR FURTHER INFORMATION CONTACT.

B. How Can I Get Copies of this Document and Other Related Information?

1. Docket. EPA has established an official public docket for this action under docket ID number OPPT-2005-0039. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.You may also access additional information about the ITC at http://www.epa.gov/opptintr/itc or through the web site for the Office of Prevention, Pesticides and Toxic Substances (OPPTS) at http://www.epa.gov/opptsfrs/home/opptsim.htm/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPPT-2005-0039. The system is an “anonymous access” system, which means EPA will not know your identity, e-mail address, or other contact information unless you provide it in the body of your comment.

ii. E-mail. Comments may be sent by e-mail to oppt.ncic@epa.gov, Attention: Docket ID Number OPPT-2005-0039. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO), EPA East Bldg., Rm. 6428, 1201 Constitution Ave., NW., Washington, DC. Attention: Docket ID Number OPPT-2005-0039. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

We invite you to provide your views and comments on the 56th ITC Report. You may find the following suggestions helpful for preparing your comments:

1. Explain your views as clearly as possible.

2. Describe any assumptions that you used.

3. Provide copies of any technical information and/or data you used that support your views.

4. Provide specific examples to illustrate your concerns.

5. Make sure to submit your comments by the deadline in this notice.

6. To ensure proper receipt by EPA, be sure to identify the docket ID number assigned to this action in the subject line on the first page of your response. You may also provide the name, date, and Federal Register citation.

II. Background

The Toxic Substances Control Act (TSCA) (15 U.S.C. 2601 et seq.) authorizes the Administrator of EPA to promulgate regulations under TSCA section 4(a) requiring testing of chemicals and chemical groups in order to develop data relevant to determining the risks that such chemicals and chemical groups may present to health or the environment. Section 4(e) of TSCA established the ITC to recommend chemicals and chemical groups to the Administrator of EPA for priority testing consideration. Section 4(e) of TSCA directs the ITC to revise the TSCA section 4(e) Priority Testing List at least every 6 months.

List of Subjects

Environmental protection, Chemicals, Hazardous substances.

Dated: October 14, 2005.
Wendy C. Hamnett,
Acting Director, Office of Pollution Prevention and Toxics.

Fifty-Sixth Report of the TSCA Interagency Testing Committee to the Administrator, U.S. Environmental Protection Agency

Table of Contents

Summary

I. Background

II. TSCA Section 8 Reporting

A. TSCA Section 8 Reporting Rules

B. ITC's Use of TSCA Section 8 and Other Information

C. Previous Requests to Add Chemicals to the TSCA Section 8(a) PAIR and Section 8(d) HaSDR Rules

D. New Requests to Add Chemicals to the TSCA Section 8(a) PAIR and Section 8(d) HaSDR Rules

III. ITC's Activities During this Reporting Period (December 2004 to August 2005)

A. Status of HPV Challenge Program Orphan Chemicals

B. Data-Availability Study for HPV Chemicals in the 1998 and 2002 IURs, But Not in the 1990 or 1994 IURs

C. Status of Requests for Data on Vanadium Compounds in Surface Impoundments

IV. Revisions to the TSCA Section 4(e) Priority Testing List

A. Chemicals Added to the Priority Testing List

1. HPV orphan chemicals.

2. Tungsten compounds.

B. Chemicals Removed from the Priority Testing List

1. HPV orphan chemicals.

2. Pyridinamine compounds.

3. Indium compounds.

4. Vanadium compounds.

V. References

VI. The TSCA Interagency Testing Committee

Appendices

A—Chemical Abstracts Service Registry Number (CAS No.) and TSCA Inventory Names of HPV Orphan Chemicals that the ITC is Requesting EPA Add to TSCA Section 8(a) and 8(d) Rules

B—Chemical Abstracts Service Registry Number (CAS No.) and TSCA Inventory Names of HPV Chemicals in the 1998 and 2002 IURs, But Not in the 1990 or 1994 IURs

SUMMARY

The ITC is revising the Toxic Substances Control Act (TSCA) section 4(e) Priority Testing List by adding 5 High Production Volume (HPV) orphan chemicals and 2 tungsten compounds and removing 28 HPV orphan chemicals, 3 pyridinamine compounds, 6 indium compounds, and 6 vanadium compounds. The ITC is requesting that EPA add the 5 HPV orphan chemicals and 2 tungsten compounds to the TSCA section 8(a) Preliminary Assessment Information Reporting (PAIR) rule and the 5 HPV orphan chemicals to the TSCA section 8(d) Health and Safety Data Reporting (HaSDR) rule. To facilitate the efforts of EPA, other Federal and State agencies, interested stakeholders and members of the public in obtaining basic health effects and environmental data on HPV chemicals, the ITC conducted a December 2004 data-availability study of 235 substances that were HPV chemicals in the 1998 and 2002 Inventory Update Rules (IURs), but not in the 1990 or 1994 IURs. The study is discussed and the list of 235 substances is appended to this 56th ITC Report.

The TSCA section 4(e) Priority Testing List is Table 1 of this section.

Table 1.—TSCA Section 4(e) Priority Testing List (August 2005)
ITC report | Date | Chemical name/group | Action
31 | January 1993 | 13 Chemicals with insufficient dermal absorption rate data | Designated
32 | May 1993 | 16 Chemicals with insufficient dermal absorption rate data | Designated
35 | November 1994 | 4 Chemicals with insufficient dermal absorption rate data | Designated
37 | November 1995 | 4-tert-Butylphenol and Branched nonylphenol (mixed isomers) | Recommended
41 | November 1997 | Phenol, 4-(1,1,3,3-tetramethylbutyl)- | Recommended
47 | November 2000 | 3 Indium compounds | Recommended
51 | November 2002 | 12 Vanadium compounds | Recommended
53 | November 2003 | 20 Tungsten compounds | Recommended
55 | December 2004 | 246 HPV orphan chemicals | Recommended
56 | August 2005 | 5 HPV orphan chemicals 2 Tungsten compounds | Recommended

I. Background

The ITC was established by section 4(e) of TSCA “to make recommendations to the Administrator respecting the chemical substances and mixtures to which the Administrator should give priority consideration for the promulgation of rules for testing under section 4(a).... At least every six months ..., the Committee shall make such revisions to the Priority Testing List as it determines to be necessary and transmit them to the Administrator together with the Committee's reasons for the revisions” (Public Law 94-469, 90 Stat. 2003 et seq., 15 U.S.C. 2601 et seq.). ITC reports are available from the ITC's web site (http://www.epa.gov/opptintr/itc) within a few days of submission to the Administrator and from the EPA's web site (http://www.epa.gov/fedrgstr) after publication in the Federal Register. The ITC produces its revisions to the Priority Testing List with administrative and technical support from the ITC staff, ITC members and their U.S. Government organizations, and contract support provided by EPA. ITC members and staff are listed at the end of this report.

II. TSCA Section 8 Reporting

A. TSCA Section 8 Reporting Rules

Following receipt of the ITC's report (and the revised Priority Testing List) by the EPA Administrator, the EPA's Office of Pollution Prevention and Toxics (OPPT) may add the chemicals from the revised Priority Testing List to the TSCA section 8(a) PAIR or TSCA section 8(d) HaSDR rules. The PAIR rule requires manufacturers (including importers) of chemicals added to the Priority Testing List to submit production and exposure reports (http://www.epa.gov/opptintr/chemtest/pairform.pdf). The HaSDR rule requires manufacturers (including importers) of chemicals added to the Priority Testing List to submit unpublished health and safety studies under TSCA section 8(d) that must be in compliance with the revised HaSDR rule (Ref. 1). All submissions to both rules must be received by the EPA within 90 days of the reporting rules' Federal Register publication date, i.e., 60 days from the reporting rules' effective date, because 30 days are allowed for public comment.

B. ITC's Use of TSCA Section 8 and Other Information

The ITC's use of TSCA section 8 and other information is described in the 52nd ITC Report (http://www.epa.gov/opptintr/itc/rptmain.htm).

C. Previous Requests to Add Chemicals to the TSCA Section 8(a) PAIR and Section 8(d) HaSDR Rules

In its December 8, 2004, 55th ITC Report to the EPA Administrator, the ITC added 276 HPV Challenge Program Orphan chemicals to the Priority Testing List, and requested that EPA add them to TSCA section 8(a) PAIR and 8(d) HaSDR rules. HPV Challenge Program chemicals are those with U.S. annual production or importation volumes of 1 million pounds or more reported to EPA in the 1990 IUR (http://www.epa.gov/opptintr/chemrtk/hpv_1990.htm) supplemented with additional HPV chemicals from the 1994 IUR (http://www.epa.gov/opptintr/chemrtk/hpv_1994.htm). HPV orphan chemicals are those for which companies have not made commitments under the EPA's HPV Challenge Program to prepare Robust Summaries, sponsor testing, etc.

On February 11, 2005, the 55th ITC Report was published in the Federal Register and included 270 HPV orphan chemicals (Ref 2). The smaller number of HPV orphan chemicals (270) in the Federal Register version of the 55th ITC Report was attributed to new commitments for 6 HPV orphan chemicals made by companies under the HPV Challenge Program.

As noted in section IV.B.1., commitments for 2 of the 6 HPV orphan chemicals, ethanol, 2-methoxy- (Chemical Abstracts Service Registry Number (CAS No.) 109-86-4) and tetradecane (CAS No. 629-59-4) were transferred to the International Council of Chemical Association (ICCA) HPV Initiative. As a result, these 2 HPV orphan chemicals will not be added to TSCA section 8(a) PAIR and 8(d) HaSDR rules and are not included in Appendix A.

However, 4 of the 6 HPV orphan chemicals that were not included in the February 11, 2005 Federal Register notice are being retained on the December 8, 2004 Priority Testing List and added back to the February 11, 2005 Priority Testing List because these new commitments were received by EPA after December 8, 2004 (Table 2 of this section).

Table 2.—HPV Orphan Chemicals Being Retained on the December 8, 2004 Priority Testing List and Added Back to the February 11, 2005 Priority Testing List
CAS No. | HPV orphan chemical
78-42-2 | Phosphoric acid, tris(2-ethylhexyl) ester
12645-31-7 | Phosphoric acid, 2-ethylhexyl ester
68511-40-0 | 1-Propanamine, 3-(tridecyloxy)-, branched
68553-14-0 | Hydrocarbons, C8-11

In addition, there are 4 HPV orphan chemicals that are being retained on the December 8, 2004 and February 11, 2005 Priority Testing List because these new commitments were also received by EPA after December 8, 2004 (Table 3 of this section).

Table 3.—HPV Orphan Chemicals Being Retained on the December 8, 2004 and February 11, 2005 Priority Testing List
CAS No. | HPV orphan chemical
140-08-9 | Ethanol, 2-chloro-, phosphite (3:1)
25586-42-9 | Phosphorous acid, tris(methylphenyl) ester
68953-70-8 | Oxirane, reaction products with ammonia, distn. residues
70024-67-8 | Benzenesulfonic acid, C1-24-alkyl derives.

The commitments for the 8 HPV orphan chemicals in Tables 2 and 3 of this section are being treated as new commitments in accordance with EPA's Policy Regarding Acceptance of New Commitments to Sponsor Chemicals under the HPV Challenge Program. The June 27, 2005 policy is described in http://www.epa.gov/chemrtk/hpvpolcy.htm and outlines a process by which EPA continues to encourage commitments from U.S. manufacturers and importers of HPV chemicals and defines specific timelines for submitting test plans and robust summaries.

At this time, the 8 HPV orphan chemicals in Tables 2 and 3 of this section will not be added to TSCA section 8(a) PAIR and 8(d) HaSDR rules and are not included in Appendix A. However, maintaining these 8 HPV orphan chemicals on the Priority Testing List will ensure that recourse to future TSCA 8(a) and 8(d) rules can address those chemicals for which commitments are not met according to the June 27, 2005 policy.

D. New Requests to Add Chemicals to the TSCA Section 8(a) PAIR and Section 8(d) HaSDR Rules

In this report, the ITC is requesting that EPA add the 5 HPV orphan chemicals discussed in section IV.A.1. to the TSCA section 8(a) PAIR and section 8(d) HaSDR rules. The ITC requests that tungsten oxides, W10O29 (CAS No. 12037-58-0) and W18O49 (CAS No. 12037-57-9), be added to a different TSCA section 8(a) PAIR rule than the HPV orphan chemicals.

III. ITC's Activities During this Reporting Period (December 2004 to August 2005)

A. Status of HPV Challenge Program Orphan Chemicals

During this reporting period, the ITC Director met with EPA to discuss the EPA Policy Regarding Acceptance of New Commitments to Sponsor Chemicals under the HPV Challenge Program (http://www.epa.gov/chemrtk/hpvpolcy.htm). Under this Policy, EPA will accept new commitments for the 243 HPV orphan chemicals listed in Appendix A. Appendix A includes the 5 HPV orphan chemicals discussed in section IV.A.1., but not the 2 HPV orphan chemicals transferred to the ICCA HPV Initiative, the 8 HPV orphan chemicals in Tables 2 and 3, and the 28 HPV orphan chemicals discussed in section IV.B.1. EPA will accept new commitments from the date the ITC submitted its 55th ITC Report to the EPA Administrator (i.e., December 8, 2004) until 14 days following publication of the TSCA section 8(a) PAIR and 8(d) HaSDR rules for the 243 HPV orphan chemicals listed in Appendix A. HPV orphan chemicals for which new commitments are accepted based on EPA's policy will either not be included in or will be removed from the 8(a) PAIR and 8(d) HaSDR rules prior to their effective dates.

In contrast to Appendix A, the Priority Testing List from the 55th ITC Report includes the 8 HPV orphan chemicals in Tables 2 and 3, but not the 2 HPV orphan chemicals transferred to the ICCA HPV Initiative and the 28 HPV orphan chemicals discussed in section IV.B.1. for a total of 246 HPV orphan chemicals. With the addition of the 5 HPV orphan chemicals discussed in section IV.A.1., there are a total of 251 HPV orphan chemicals on the Priority Testing List.

B. Data-Availability Study for HPV Chemicals in the 1998 and 2002 IURs, But Not in the 1990 or 1994 IURs

To facilitate the efforts of EPA, other Federal and State agencies, interested stakeholders and members of the public in obtaining basic health effects and environmental data on HPV chemicals, the ITC conducted a data-availability study in December 2004. The study focused on 235 substances that were HPV chemicals in the 1998 and 2002 IURs, but not in the 1990 or 1994 IURs. The HPV status of these chemicals was confirmed on May 25, 2005. Since the ITC conducted its study, the American Chemistry Council (ACC), Soap and Detergent Association (SDA) and Synthetic Organic Chemical Manufacturers Association (SOCMA) announced its Extended HPV (EHPV) Program on March 15, 2005. The goal of the EHPV Program is to collect and publish health and environmental information on approximately 500 chemicals that did not qualify as HPV chemicals under the EPA's original HPV Challenge program but have since reached the 1 million pound per year threshold according to the 2002 IUR.

The ITC is making the results of the study available in this 56th ITC Report to provide the ACC, SDA, SOCMA, and others involved in the industry-led EHPV Program with information that will assist these organizations in determining if there are existing unpublished studies that can provide the basic health and environmental effects data on these HPV chemicals.To complement the data-availability study of 235 HPV chemicals included in both the 1998 and 2002 IURs, the ITC conducted a data-availability study in August 2005 of about 284 additional chemicals that were HPV chemicals only in the 2002 IUR but not in the 1990, 1994 or 1998 IURs. None of these 284 chemicals were included in the data-availability study of 235 HPV chemicals in the 1998 and 2002 IURs. The ITC will make the results of this study public in its 57th ITC Report to the EPA Administrator. In addition, the ITC has initiated data-availability studies on categories of non-HPV chemicals and will make the results of these studies public in future reports to the EPA Administrator. At this time, the ITC has not determined whether to conduct a data-availability study on approximately 237 chemicals that were HPV chemicals only in the 1998 IUR, but not in the 1990, 1994 or 2002 IURs, because the ITC wants to review the 2006 IUR data for these chemicals. The goal of the ITC's data-availability studies is to provide tools for ACC, SDA, SOCMA, and other stakeholders to use in efforts to provide information on publicly available studies for IUR chemicals.

The data-availability study of the 235 substances that were HPV chemicals in the 1998 and 2002 IURs, but not in the 1990 or 1994 IURs was based on the methods that EPA used for assessing the availability of data for the 1990 HPV Challenge Program List of Chemicals (see http://www.epa.gov/chemrtk/hazchem.pdf), but was expanded to include studies sponsored by the NTP (http://ntp-server.niehs.nih.gov/). The methods that EPA used for the 1990 HPV chemicals were designed to determine if there were available studies for 6 endpoints that were required for the Organization for Economic Cooperation and Development (OECD) Screening Information Data Set (SIDS) dossiers. These 6 endpoints included 4 health-effects related endpoints (acute toxicity, chronic toxicity, mutagenicity, reproductive effects/developmental toxicity), an ecological effects endpoint and an environmental fate endpoint. Expanding the EPA methods to include NTP studies provided opportunities to capture studies on other health-effects related endpoints (e.g., neurotoxicity and carcinogenicity) and on the 4 health-effects related endpoints that might not be included in information sources that were searched. The results of the data-availability study of the 235 substances that were HPV chemicals in the 1998 and 2002 IURs, but not in the 1990 or 1994 IURs are summarized in Table 4 of this section.

Table 4.—Number of SIDS endpoints for which studies were available for the 235 HPV chemicals in the 1998 and 2002 IURs, but not in the 1990 or 1994 IURs
Number of SIDS endpoints for which studies were available | Number of chemicals
0 | 122
1 | 35
2 | 22
3 | 16
4 | 14
5 | 21
6 | 5
Total | 235

The 235 HPV chemicals in the 1998 and 2002 IURs, but not in the 1990 or 1994 IURs are listed in Appendix B. A table identifying the publicly available studies for the 235 HPV chemicals in the 1998 and 2002 IURs is posted on the ITC's web site (http://www.epa.gov/opptintr/itc).

C. Status of Requests for Data on Vanadium Compounds in Surface Impoundments

As discussed in the 55th ITC Report, the ITC is concerned that vanadium compounds may be released into fly ash ponds and related impoundments and could be toxic to avian and wildlife species as exemplified by a recent report of dead Canada geese at a petroleum refinery fly ash pond in Delaware. During this reporting period, the ITC contacted the ACC, American Petroleum Institute (API), Electric Power Research Institute (EPRI), Alabama Power Company, Barrick Goldstrike Mines, Kerr-McGee Chemical, Newmont Mining Corporation and U.S. Vanadium Corporation to determine if these organizations could provide data on concentrations and species of vanadium compounds in surface impoundments (fluid-filled depressions). The API reported that one of their members found less than 1 part per billion (ppb) vanadium in their waste ponds. EPRI suggested that higher concentrations of vanadium compounds are likely to be found in fly-ash ponds at coal-fired power plants than at other electricity-generating facilities, but that concentrations in ponds would likely range from 10 to 100 ppb vanadium. From the companies listed above, none reported vanadium concentrations as high as the 478,000 ppb vanadium in the Delaware petroleum refinery fly ash pond.

IV. Revisions to the TSCA Section 4(e) Priority Testing List

A. Chemicals Added to the Priority Testing List

1. HPV orphan chemicals. Naphtha (petroleum), clay-treated light straight-run (CAS No. 68527-22-0) is being added to the Priority Testing List because it was inadvertently left off the original list of HPV orphan chemicals that were HPV chemicals in either the 1998 or 2002 IURs (Table 5 of this section). EPA has confirmed that this chemical was produced at HPV volumes in 2002. Four additional HPV orphan chemicals are being added because previous sponsors withdrew their sponsorship commitments (Table 5 of this section).

Table 5.—HPV Orphan Chemicals Being Added to the Priority Testing List in this 56th ITC Report
CAS No. | HPV orphan chemical
77-86-1 | 1,3-Propanediol, 2-amino-2-(hydroxymethyl)-
61788-44-1 | Phenol, styrenated
68457-74-9 | Phenol, isobutylenated methylstyrenated
68527-22-0 | Naphtha (petroleum), clay-treated light straight-run
72162-15-3 | 1-Decene, sulfurized

2. Tungsten compounds.In its 53rd ITC Report, the ITC added 20 tungsten compounds to the Priority Testing List to obtain importation, production, use, exposure, and health effects information to meet U.S. Government data needs (Ref. 3). In this 56th ITC Report, the ITC is adding tungsten oxide (W18O49) (CAS No. 12037-57-9) and tungsten oxide (W10O29) (CAS No. 12037-58-0) to the Priority Testing List and is soliciting information on health effects and occupational exposures.

B. Chemicals Removed from the Priority Testing List

1. HPV orphan chemicals. The ITC is removing ethanol, 2-methoxy- (CAS No. 109-86-4) and tetradecane (CAS No. 629-59-4) from the December 8, 2004 Priority Testing List because sponsorship of these two substances was transferred to the ICCA HPV Initiative. The ITC is removing 11 HPV orphan chemicals from the December 8, 2004 Priority Testing List that were sponsored before the 55th ITC Report was sent to the EPA Administrator on December 8, 2004 (Table 6 of this section).

Table 6.—HPV Orphan Chemicals that Were Sponsored Before December 8, 2004
CAS No. | HPV orphan chemical
90-43-7 | [1,1'-Biphenyl]-2-ol
94-75-7 | Acetic acid, (2,4-dichlorophenoxy)-
542-75-6 | 1-Propene, 1,3-dichloro-
1646-75-9 | Propanal, 2-methyl-2-(methylthio)-, oxime
1918-02-1 | 2-Pyridinecarboxylic acid, 4-amino-3,5,6-trichloro-
1929-82-4 | Pyridine, 2-chloro-6-(trichloromethyl)-
3586-14-9 | Benzene, 1-methyl-3-phenoxy-
64742-24-1 | Sludges (petroleum), acid
68920-64-9 | Disulfides, di-C1-2-alkyl
68955-96-4 | Disulfides, dialkyl and di-Ph, naphtha sweetening
68988-99-8 | Phenols, sodium salts, mixed with sulfur compounds, gasoline alk. scrubber residues

The ITC is also removing 17 HPV orphan chemicals from the December 8, 2004 Priority Testing List that no longer meet the HPV criterion (Table 7 of this section).

Table 7.—HPV Orphan Chemicals that No Longer Meet the HPV Criterion
CAS No. | HPV orphan chemical
75-34-3 | Ethane, 1,1-dichloro-
95-94-3 | Benzene, 1,2,4,5-tetrachloro-
96-23-1 | 2-Propanol, 1,3-dichloro-
307-35-7 | 1-Octanesulfonyl fluoride, 1,1,2,2,3,3,4,4,5,5,6,6,7,7,8,8,8-heptadecafluoro-
597-31-9 | Propanal, 3-hydroxy-2,2-dimethyl-
625-55-8 | Formic acid, 1-methylethyl ester
1691-99-2 | 1-Octanesulfonamide, N-ethyl-1,1,2,2,3,3,4,4,5,5,6,6,7,7,8,8,8-heptadecafluoro- N-(2-hydroxyethyl)-
2702-72-9 | Acetic acid, (2,4-dichlorophenoxy)-, sodium salt
4080-31-3 | 3,5,7-Triaza-1-azoniatricyclo[3,3,1,13,7]decane, 1-(3-chloro-2-propenyl)-, chloride
4300-97-4 | Propanoyl chloride, 3-chloro-2,2-dimethyl-
7446-81-3 | 2-Propenoic acid, sodium salt
14143-60-3 | 2-Pyridinecarbonitrile, 4-amino-3,5,6-trichloro-
24448-09-7 | 1-Octanesulfonamide, 1,1,2,2,3,3,4,4,5,5,6,6,7,7,8,8,8-heptadecafluoro-N-(2-hydroxyethyl)-N-methyl-
37439-34-2 | 2(1H)-Pyridinone, 3,5,6-trichloro-, sodium salt
56038-89-2 | Benzenamine, N-(1-ethylpropyl)-3,5-dimethyl-
64771-71-7 | Paraffins (petroleum), normal C>10
68512-63-0 | Benzene, ethenyl-, distn. residues

2. Pyridinamine compounds. In its 53rd ITC Report, the ITC added 3 pyridinamine compounds to the Priority Testing List to obtain importation, production, use, exposure, and health effects information to meet U.S. Government data needs (Ref. 3). Since then, the ITC has reviewed reports submitted in response to the December 7, 2004 PAIR rule (Ref. 4). In this 56th ITC Report, the ITC is removing 2-pyridinamine (CAS No. 504-29-0), 3-pyridinamine (CAS No. 462-08-8) and 4-pyridinamine (CAS No. 504-24-5) from the Priority Testing List because information submitted in response to the PAIR rule suggested low potential for occupational exposure.

3. Indium compounds. In its 47th ITC Report, the ITC added 37 indium compounds to the Priority Testing List to obtain importation, production, use, exposure, and health effects information to meet U.S. Government data needs (Ref. 5). Twenty-eight indium compounds were removed from the Priority Testing List because no production or importation data were submitted to EPA in response to the July 26, 2001, PAIR rule (Ref. 6). These 28 indium compounds are listed in the 51st ITC Report (Ref. 7). The remaining 9 indium compounds were added to the May 4, 2004 TSCA section 8(d) HaSDR rule (Ref. 8). In this 56th ITC Report, the ITC is removing 6 indium compounds from the Priority Testing List because information submitted in response to the PAIR rule suggested low potential for occupational exposure and because only one study was submitted in response to the HaSDR rule (Table 8 of this section).

Table 8.—Indium compounds being removed from the Priority Testing List
CAS No. | Indium compound
1312-43-2 | Indium oxide (ln2O3)
10025-82-8 | Indium chloride (InCl3)
13464-82-9 | Sulfuric acid, indium(3+) salt (3:2)
20661-21-6 | Indium hydroxide (In(OH)3)
25114-58-3 | Acetic acid, indium(3+) salt
66027-93-8 | Sulfamic acid, indium(3+) salt

The 3 indium compounds remaining on the Priority Testing List are listed in Table 9 of this section.

Table 9.—Indium compounds remaining on the Priority Testing List
CAS No. | Indium compound
7440-74-6 | Indium
22398-80-7 | Indium phosphide (InP)
50926-11-9 | Indium tin oxide.

For these 3 indium compounds, the ITC needs data on: 1) concentrations to which workers may be exposed during manufacturing and downstream uses and 2) numbers of workers associated with manufacturing and downstream uses. The ITC needs this information to assess occupational exposures.

4. Vanadium compounds. In its 51st ITC Report, the ITC added 43 vanadium compounds to the Priority Testing List to obtain importation, production, use, exposure, and health effects information to meet U.S. Government data needs (Ref. 7). At the ITC's request, the EPA added the 43 vanadium compounds to the June 11, 2003 PAIR rule (Ref. 9). In its 54th ITC Report, the ITC removed 25 vanadium compounds from the Priority Testing List because information submitted in response to the PAIR rule suggested low potential for occupational exposure (Ref. 10).

At this time, the ITC needs data on water and sediment concentrations of vanadium species in fly ash ponds and related impoundments (fluid-filled depressions) and the pH of these ponds and impoundments. In addition, the ITC needs information on any wildlife mortality events occurring near these impoundments. A recent study that described the toxicity and hazard of vanadium to mallard ducks and Canada geese was conducted because of wildlife mortalities that occurred in a Delaware oil refinery fly ash pond contaminated with vanadium compounds (Ref. 11).

In this 56th ITC Report, the ITC is removing 6 vanadium compounds from the Priority Testing List (Table 10 of this section).

Table 10.—Vanadium Compounds Being Removed From the Priority Testing List
CAS No. | Vanadium compounds
11130-21-5 | Vanadium carbide
12035-98-2 | Vanadium oxide (VO)
12036-21-4 | Vanadium oxide (VO2)
24646-85-3 | Vanadium nitride (VN)
27774-13-6 | Vanadium, oxo[sulfato(2-)-.kappa.O]- (Vanadyl sulfate)
65232-89-5 | Vanadium hydroxide oxide phosphate

The ITC is removing vanadium oxide (VO) (CAS No. 12035-98-2), vanadium oxide (VO2) (CAS No. 12036-24-1), vanadium nitride (VN) (CAS No. 24646-85-3) and vanadium, oxo[sulfato(2-)-.kappa.O]- (Vanadyl sulfate) (CAS No. 27774-13-6) from the Priority Testing List because information submitted in response to the PAIR rule suggested low potential for occupational exposure. The ITC is removing vanadium carbide (CAS No. 11130-21-5) and vanadium hydroxide oxide phosphate (CAS No. 65232-89-5) from the Priority Testing List because neither is likely to be a contaminant in fly ash ponds and related impoundments.

Table 11 of this section lists the 12 vanadium compounds remaining on the Priority Testing List.

Table 11.—Vanadium Compounds Remaining on the Priority Testing List
CAS No. | Vanadium compounds
1314-34-7 | Vanadium oxide (V2O3) [Vanadium trioxide]
1314-62-1 | Vanadium oxide (V2O5) [Vanadium pentoxide]
7632-51-1 | Vanadium chloride (VCl4), (T-4)- [Vanadium tetrachloride]
7727-18-6 | Vanadium, trichlorooxo-, (T-4)- [Vanadium oxytrichloride]
7803-55-6 | Vanadate (VO31-), ammonium [Ammonium metavanadate]
12166-27-7 | Vanadium sulfide (VS)
12604-58-9 | Vanadium alloy, base, V,C,Fe (Ferrovanadium)
13517-26-5 | Sodium vanadium oxide (Na4V2O7) [Sodium pyrovanadate]
13718-26-8 | Vanadate (VO31-), sodium [Sodium metavanadate]
13721-39-6 | Sodium vanadium oxide (Na3VO4) [Sodium orthovanadate]
13769-43-2 | Vanadate (VO31-), potassium [Potassium metavanadate]
14059-33-7 | Bismuth vanadium oxide (BiVO4)

V. References

1. EPA. 1998. Revisions to Reporting Regulations Under TSCA Section 8(d). Federal Register (63 FR 15765, April 1, 1998) (FRL-5750-4). Available online at: http://www.epa.gov/fedrgstr/.

2. ITC. 2005. Fifty-Fifth Report of the ITC. Federal Register (70 FR 7364, February 11, 2005) (FRL-7692-1). Available online at: http://www.epa.gov/fedrgstr/.

3. ITC. 2004. Fifty-Third Report of the ITC. Federal Register (69 FR 2467, January 15, 2004) (FRL-7335-2). Available online at: http://www.epa.gov/fedrgstr/.

4. EPA. 2004. Preliminary Assessment Information Reporting; Addition of Certain Chemicals. Federal Register (69 FR 70552, December 7, 2004) (FRL-7366-8). Available online at: http://www.epa.gov/fedrgstr/.

5. ITC. 2001. Forty-Seventh Report of the ITC. Federal Register(66 FR 17768, April 4, 2001) (FRL-6763-6). Available online at: http://www.epa.gov/fedrgstr/.

6. EPA. 2001. Preliminary Assessment Information Reporting; Addition of Certain Chemicals. Federal Register (66 FR 38955, July 26, 2001) (FRL-6783-6). Available online at: http://www.epa.gov/fedrgstr/.

7. ITC. 2002. Fifty-First Report of the ITC. Federal Register (68 FR 8976, February 26, 2003) (FRL-7285-7). Available online at: http://www.epa.gov/fedrgstr/.

8. EPA. 2004. Health and Safety Data Reporting; Addition of Certain Chemicals. Federal Register (69 FR 24517, May 4, 2004) (FRL-7322-8). Available online at: http://www.epa.gov/fedrgstr/.

9. EPA. 2003. Preliminary Assessment Information Reporting; Addition of Certain Chemicals. Federal Register (68 FR 34832, June 11, 2003) (FRL-7306-7). Available online at: http://www.epa.gov/fedrgstr/.

10. ITC. 2004. Fifty-Fourth Report of the ITC. Federal Register (69 FR 33527, June 15, 2004) (FRL-7359-6). Available online at: http://www.epa.gov/fedrgstr/.

11. Rattner, B.A., M.A. McKernan, K.M. Eisenreich, W.A. Link, G. Olsen, D.J. Hoffman, K.A. Knowles, and P.C. McGowan. 2005. Toxicity and hazard of vanadium to mallard ducks (Anas platyrhynchos) and Canada geese (Branta canadensis). Journal of Toxicology and Environmental Health (In Press)

VI. The TSCA Interagency Testing Committee

Statutory Organizations and Their Representatives

Council on Environmental Quality

Vacant

Department of Commerce

National Institute of Standards and Technology

Dianne Poster, Member

Peter Barker, Alternate

National Oceanographic and Atmospheric Administration

Tony Pait, Member

Thomas P. O'Connor, Alternate

Environmental Protection Agency

Gerry Brown, Member

Paul Campanella, Alternate

National Cancer Institute

Alan Poland, Member

Shen Yang, Alternate

National Institute of Environmental Health Sciences

Scott Masten, Alternate

National Institute for Occupational Safety and Health

Dennis W. Lynch, Member

Mark Toraason, Alternate

National Science Foundation

Marge Cavanaugh, Member, Chair

Parag R. Chitnis, Alternate

Occupational Safety and Health Administration

Maureen Ruskin, Member, Vice Chair

Liaison Organizations and Their Representatives

Agency for Toxic Substances and Disease Registry

Daphne Moffett, Member

Consumer Product Safety Commission

Jacqueline Ferrante, Member

Department of Agriculture

Clifford P. Rice, Member

Laura L. McConnell, Alternate

Department of Defense

Brent Gibson, Member

Erin Wilfong, Alternate

Department of the Interior

Barnett A. Rattner, Member

Food and Drug Administration

Kirk Arvidson, Alternate

Ronald F. Chanderbhan, Alternate

National Library of Medicine

Vera W. Hudson, Member

National Toxicology Program

NIEHS, FDA, and NIOSH, Members

Technical Support Contractor

Syracuse Research Corporation

ITC Staff

John D. Walker, Director

Carol Savage, Administrative Assistant

TSCA Interagency Testing Committee (7401), Office of Pollution Prevention and Toxics, Environmental Protection Agency, 1200 Pennsylvania Ave., NW., Washington, DC 20460-0001; e-mail address: savage.carol@epa.gov; url: http://www.epa.gov/opptintr/itc/.

Appendices

Appendix A—Chemical Abstracts Service Registry Number (CAS No.) and TSCA Inventory Names of HPV Orphan Chemicals that the ITC is Requesting EPA Add to TSCA Section 8(a) and 8(d) Rules
CAS No. | Chemical name
62-56-6 | Thiourea
74-97-5 | Methane, bromochloro-
75-46-7 | Methane, trifluoro-
77-76-9 | Propane, 2,2-dimethoxy-
77-86-1 | 1,3-Propanediol, 2-amino-2-(hydroxymethyl)-
81-07-2 | 1,2-Benzisothiazol-3(2H)-one, 1,1-dioxide
81-16-3 | 1-Naphthalenesulfonic acid, 2-amino-
81-84-5 | 1H,3H-Naphtho[1,8-cd]pyran-1,3-dione
83-41-0 | Benzene, 1,2-dimethyl-3-nitro-
84-69-5 | 1,2-Benzenedicarboxylic acid, bis(2-methylpropyl) ester
85-40-5 | 1H-Isoindole-1,3(2H)-dione, 3a,4,7,7a-tetrahydro-
91-68-9 | Phenol, 3-(diethylamino)-
94-96-2 | 1,3-Hexanediol, 2-ethyl-
96-22-0 | 3-Pentanone
97-00-7 | Benzene, 1-chloro-2,4-dinitro-
98-09-9 | Benzenesulfonyl chloride
98-16-8 | Benzenamine, 3-(trifluoromethyl)-
98-56-6 | Benzene, 1-chloro-4-(trifluoromethyl)-
99-51-4 | Benzene, 1,2-dimethyl-4-nitro-
100-64-1 | Cyclohexanone, oxime
101-34-8 | 9-Octadecenoic acid, 12-(acetyloxy)-,1,2,3-propanetriyl ester, (9Z,9'Z,9''Z,12R,12'R,12''R)-
104-66-5 | Benzene, 1,1'-[1,2-ethanediylbis(oxy)]bis-
104-93-8 | Benzene, 1-methoxy-4-methyl-
107-39-1 | 1-Pentene, 2,4,4-trimethyl-
107-40-4 | 2-Pentene, 2,4,4-trimethyl-
107-45-9 | 2-Pentanamine, 2,4,4-trimethyl-
110-18-9 | 1,2-Ethanediamine, N,N,N',N'-tetramethyl-
110-33-8 | Hexanedioic acid, dihexyl ester
111-44-4 | Ethane, 1,1'-oxybis[2-chloro-
111-85-3 | Octane, 1-chloro-
111-91-1 | Ethane, 1,1'-[methylenebis(oxy)]bis[2-chloro-
118-90-1 | Benzoic acid, 2-methyl-
119-33-5 | Phenol, 4-methyl-2-nitro-
121-69-7 | Benzenamine, N,N-dimethyl-
121-82-4 | 1,3,5-Triazine, hexahydro-1,3,5-trinitro-
124-63-0 | Methanesulfonyl chloride
127-68-4 | Benzenesulfonic acid, 3-nitro-, sodium salt
131-57-7 | Methanone, (2-hydroxy-4-methoxyphenyl)phenyl-
137-20-2 | Ethanesulfonic acid, 2-[methyl[(9Z)-1-oxo-9- octadecenyl]amino]-, sodium salt
138-25-0 | 1,3-Benzenedicarboxylic acid, 5-sulfo-, 1,3-dimethyl ester
139-40-2 | 1,3,5-Triazine-2,4-diamine, 6-chloro-N,N'-bis(1-methylethyl)-
140-93-2 | Carbonodithioic acid, O-(1-methylethyl) ester, sodium salt
142-73-4 | Glycine, N-(carboxymethyl)-
150-50-5 | Phosphorotrithious acid, tributyl ester
330-54-1 | Urea, N'-(3,4-dichlorophenyl)-N,N-dimethyl-
460-00-4 | Benzene, 1-bromo-4-fluoro-
506-51-4 | 1-Tetracosanol
506-52-5 | 1-Hexacosanol
513-74-6 | Carbamodithioic acid, monoammonium salt
515-40-2 | Benzene, (2-chloro-1,1-dimethylethyl)-
529-33-9 | 1-Naphthalenol, 1,2,3,4-tetrahydro-
529-34-0 | 1(2H)-Naphthalenone, 3,4-dihydro-
542-92-7 | 1,3-Cyclopentadiene
557-61-9 | 1-Octacosanol
563-72-4 | Ethanedioic acid, calcium salt (1:1)
579-66-8 | Benzenamine, 2,6-diethyl-
590-19-2 | 1,2-Butadiene
592-45-0 | 1,4-Hexadiene
598-72-1 | Propanoic acid, 2-bromo-
617-94-7 | Benzenemethanol, .alpha.,.alpha.-dimethyl-
628-13-7 | Pyridine, hydrochloride
628-96-6 | 1,2-Ethanediol, dinitrate
645-62-5 | 2-Hexenal, 2-ethyl-
693-07-2 | Ethane, 1-chloro-2-(ethylthio)-
693-95-8 | Thiazole, 4-methyl-
756-80-9 | Phosphorodithioic acid, O,O-dimethyl ester
870-72-4 | Methanesulfonic acid, hydroxy-, monosodium salt
928-72-3 | Glycine, N-(carboxymethyl)-, disodium salt
939-97-9 | Benzaldehyde, 4-(1,1-dimethylethyl)-
1000-82-4 | Urea, (hydroxymethyl)-
1002-69-3 | Decane, 1-chloro-
1111-78-0 | Carbamic acid, monoammonium salt
1115-20-4 | Propanoic acid, 3-hydroxy-2,2-dimethyl-, 3-hydroxy-2,2-dimethylpropyl ester
1401-55-4 | Tannins
1445-45-0 | Ethane, 1,1,1-trimethoxy-
1459-93-4 | 1,3-Benzenedicarboxylic acid, dimethyl ester
1498-51-7 | Phosphorodichloridic acid, ethyl ester
1558-33-4 | Silane, dichloro(chloromethyl)methyl-
1738-25-6 | Propanenitrile, 3-(dimethylamino)-
1912-24-9 | 1,3,5-Triazine-2,4-diamine, 6-chloro-N-ethyl-N'-(1-methylethyl)-
2152-64-9 | Benzenamine, N-phenyl-4-[[4-(phenylamino)phenyl][4-(phenylimino)-2,5-cyclohexadien-1-ylidene]methyl]-, monohydrochloride
2210-79-9 | Oxirane, [(2-methylphenoxy)methyl]-
2372-45-4 | 1-Butanol, sodium salt
2409-55-4 | Phenol, 2-(1,1-dimethylethyl)-4-methyl-
2425-54-9 | Tetradecane, 1-chloro-
2494-89-5 | Ethanol, 2-[(4-aminophenyl)sulfonyl]-, hydrogen sulfate (ester)
2524-03-0 | Phosphorochloridothioic acid, O,O-dimethyl ester
2611-00-9 | 3-Cyclohexene-1-carboxylic acid, 3-cyclohexen-1-ylmethyl ester
2691-41-0 | 1,3,5,7-Tetrazocine, octahydro-1,3,5,7-tetranitro-
2814-20-2 | 4(1H)-Pyrimidinone, 6-methyl-2-(1-methylethyl)-
2905-62-6 | Benzoyl chloride, 3,5-dichloro-
2915-53-9 | 2-Butenedioic acid (2Z)-, dioctyl ester
3039-83-6 | Ethenesulfonic acid, sodium salt
3088-31-1 | Ethanol, 2-[2-(dodecyloxy)ethoxy]-, hydrogen sulfate, sodium salt
3132-99-8 | Benzaldehyde, 3-bromo-
3338-24-7 | Phosphorodithioic acid, O,O-diethyl ester, sodium salt
3386-33-2 | Octadecane, 1-chloro-
3710-84-7 | Ethanamine, N-ethyl-N-hydroxy-
3779-63-3 | 1,3,5-Triazine-2,4,6(1H,3H,5H)-trione, 1,3,5-tris(6-isocyanatohexyl)-
3965-55-7 | 1,3-Benzenedicarboxylic acid, 5-sulfo-, 1,3-dimethyl ester, sodium salt
4035-89-6 | Imidodicarbonic diamide, N,N',2-tris(6-isocyanatohexyl)-
4170-30-3 | 2-Butenal
4316-73-8 | Glycine, N-methyl-, monosodium salt
4860-03-1 | Hexadecane, 1-chloro-
5026-74-4 | Oxiranemethanamine, N-[4-(oxiranylmethoxy)phenyl]-N- (oxiranylmethyl)-
5216-25-1 | Benzene, 1-chloro-4-(trichloromethyl)-
5460-09-3 | 2,7-Naphthalenedisulfonic acid, 4-amino-5-hydroxy-, monosodium salt
5915-41-3 | 1,3,5-Triazine-2,4-diamine, 6-chloro-N-(1,1-dimethylethyl)-N'-ethyl-
6473-13-8 | 2-Naphthalenesulfonic acid, 6-[(2,4-diaminophenyl)azo]-3-[[4-[[4-[[7- [(2,4-diaminophenyl)azo]-1-hydroxy-3-sulfo-2-naphthalenyl]azo]phenyl]amino]-3-sulfophenyl]azo]-4-hydroxy-, trisodium salt
6863-58-7 | Butane, 2,2'-oxybis-
6865-35-6 | Octadecanoic acid, barium salt
7320-37-8 | Oxirane, tetradecyl-
7795-95-1 | 1-Octanesulfonyl chloride
8001-58-9 | Creosote
10265-69-7 | Glycine, N-phenyl-, monosodium salt
13749-94-5 | Ethanimidothioic acid, N-hydroxy-, methyl ester
13826-35-2 | Benzenemethanol, 3-phenoxy-
14666-94-5 | 9-Octadecenoic acid (9Z)-, cobalt salt
17103-31-0 | Urea, sulfate (2:1)
17321-47-0 | Phosphoramidothioic acid, O,O-dimethyl ester
17976-43-1 | 2,4,6,8,3,5,7-Benzotetraoxatriplumbacycloundecin-3,5,7-triylidene, 1,9-dihydro-1,9-dioxo-
19438-61-0 | 1,3-Isobenzofurandione, 5-methyl-
19525-59-8 | Glycine, N-phenyl-, monopotassium salt
20068-02-4 | 2-Butenenitrile, 2-methyl-, (2Z)-
20227-53-6 | Phosphorous acid, 2-(1,1-dimethylethyl)-4-[1-[3-(1,1-dimethylethyl)-4-hydroxyphenyl]-1-methylethyl]phenyl bis(4-nonylphenyl) ester
20469-71-0 | Hydrazinecarbodithioic acid, compd. with hydrazine (1:1)
21351-39-3 | Urea, sulfate (1:1)
22527-63-5 | Propanoic acid, 2-methyl-, 3-(benzoyloxy)-2,2,4-trimethylpentyl ester
24615-84-7 | 2-Propenoic acid, 2-carboxyethyl ester
24794-58-9 | Formic acid, compd. with 2,2',2''-nitrilotris[ethanol] (1:1)
25154-38-5 | Piperazineethanol
25168-05-2 | Benzene, chloromethyl-
25168-06-3 | Phenol, (1-methylethyl)-
25321-41-9 | Benzenesulfonic acid, dimethyl-
25383-99-7 | Octadecanoic acid, 2-(1-carboxyethoxy)-1-methyl-2-oxoethyl ester, sodium salt
25646-71-3 | Methanesulfonamide, N-[2-[(4-amino-3-methylphenyl)ethylamino]ethyl]-, sulfate (2:3)
26377-29-7 | Phosphorodithioic acid, O,O-dimethyl ester, sodium salt
26401-27-4 | Phosphorous acid, isooctyl diphenyl ester
26680-54-6 | 2,5-Furandione, dihydro-3-(octenyl)-
27193-28-8 | Phenol, (1,1,3,3-tetramethylbutyl)-
28106-30-1 | Benzene, ethenylethyl-
28188-24-1 | Octadecanoic acid, 2-(hydroxymethyl)-2-[[(1-oxooctadecyl)oxy]methyl]-1,3-propanediyl ester
28777-98-2 | 2,5-Furandione, dihydro-3-(octadecenyl)-
28908-00-1 | Benzothiazole, 2-[(chloromethyl)thio]-
30574-97-1 | 2-Butenenitrile, 2-methyl-, (2E)-
32072-96-1 | 2,5-Furandione, 3-(hexadecenyl)dihydro-
33509-43-2 | 1,2,4-Triazin-5(2H)-one, 4-amino-6-(1,1-dimethylethyl)-3,4-dihydro-3-thioxo-
34689-46-8 | Phenol, methyl-, sodium salt
35203-06-6 | Benzenamine, 2-ethyl-6-methyl-N-methylene-
35203-08-8 | Benzenamine, 2,6-diethyl-N-methylene-
37734-45-5 | Carbonochloridothioic acid, S-(phenylmethyl) ester
37764-25-3 | Acetamide, 2,2-dichloro-N,N-di-2-propenyl-
38185-06-7 | Benzenesulfonic acid, 4-chloro-3,5-dinitro-, potassium salt
38321-18-5 | Ethanol, 2-(2-butoxyethoxy)-, sodium salt
39515-51-0 | Benzaldehyde, 3-phenoxy-
40630-63-5 | 1-Octanesulfonyl fluoride
40876-98-0 | Butanedioic acid, oxo-, diethyl ester, ion(1-), sodium
51632-16-7 | Benzene, 1-(bromomethyl)-3-phenoxy-
52184-19-7 | Phenol, 2,4-bis(1,1-dimethylpropyl)-6-[(2- nitrophenyl)azo]-
52556-42-0 | 1-Propanesulfonic acid, 2-hydroxy-3-(2-propenyloxy)-, monosodium salt
52663-57-7 | Ethanol, 2-butoxy-, sodium salt
56803-37-3 | Phosphoric acid, (1,1-dimethylethyl)phenyl diphenyl ester
57693-14-8 | Chromate(3-), bis[3-(hydroxy-.kappa.O)-4-[[2-(hydroxy-.kappa.O)-1-naphthalenyl]azo-.kappa.N1]-7-nitro-1-naphthalenesulfonato(3-)]-, trisodium
61788-44-1 | Phenol, styrenated
61788-76-9 | Alkanes, chloro
61789-32-0 | Fatty acids, coco, 2-sulfoethyl esters, sodium salts
61789-85-3 | Sulfonic acids (petroleum)
63302-49-8 | Phosphorochloridous acid, bis(4-nonylphenyl) ester
64743-02-8 | Alkenes, C>10 .alpha.-
64743-03-9 | Phenols (petroleum)
65996-79-4 | Solvent naphtha (coal)
65996-80-7 | Ammonia liquor (coal)
65996-81-8 | Fuel gases, coke-oven
65996-82-9 | Tar oils, coal
65996-83-0 | Extracts, coal tar oil alk.
65996-86-3 | Extract oils (coal), tar base
65996-87-4 | Extract residues (coal), tar oil alk.
65996-89-6 | Tar, coal, high-temp.
65996-91-0 | Distillates (coal tar), upper
65996-92-1 | Distillates (coal tar)
66071-94-1 | Corn, steep liquor
68081-86-7 | Phenol, nonyl derivs.
68082-78-0 | Lard, oil, Me esters
68153-60-6 | Fatty acids, tall-oil, reaction products with diethylenetriamine, acetates
68187-41-7 | Phosphorodithioic acid, O,O-di-C1-14-alkyl esters
68187-57-5 | Pitch, coal tar-petroleum
68187-59-7 | Coal, anthracite, calcined
68188-18-1 | Paraffin oils, chlorosulfonated, saponified
68308-74-7 | Amides, tall-oil fatty, N,N-di-Me
68309-16-0 | Fatty acids, tall-oil, 2-(2-hydroxyethoxy)ethyl esters
68309-27-3 | Fatty acids, tall-oil, sulfonated, sodium salts
68334-01-0 | Disulfides, alkylaryl dialkyl diaryl, petroleum refinery spent caustic oxidn. products
68441-66-7 | Decanoic acid, mixed esters with dipentaerythritol, octanoic acid and valeric acid
68442-60-4 | Acetaldehyde, reaction products with formaldehyde, by-products from
68442-77-3 | 2-Butenediamide, (2E)-, N,N'-bis[2-(4,5-dihydro-2-nortall-oil alkyl-1H-imidazol-1-yl)ethyl] derivs.
68457-74-9 | Phenol, isobutylenated methylstyrenated
68476-80-2 | Fats and Glyceridic oils, vegetable, deodorizer distillates
68478-20-6 | Residues (petroleum), steam-cracked petroleum distillates cyclopentadiene conc., C4-cyclopentadiene-free
68513-62-2 | Disulfides, C5-12-alkyl
68514-41-0 | Ketones, C12-branched
68515-89-9 | Barium, carbonate nonylphenol complexes
68527-22-0 | Naphtha (petroleum), clay-treated light straight-run
68584-25-8 | Benzenesulfonic acid, C10-16-alkyl derivs., compounds with triethanolamine
68602-81-3 | Distillates, hydrocarbon resin production higher boiling
68603-84-9 | Carboxylic acids, C5-9
68608-59-3 | Ethane, 1,2-dichloro-, manufacturer of, by-products from, distn. lights
68609-05-2 | Cyclohexane, oxidized, non-acidic by-products, distn. lights
68610-90-2 | 2-Butenedioic acid (2E)-, di-C8-18-alkyl esters
68649-42-3 | Phosphorodithioic acid, O,O-di-C1-14-alkyl esters
68650-36-2 | Aromatic hydrocarbons, C8, o-xylene-lean
68782-97-8 | Distillates (petroleum), hydrofined lubricating-oil
68815-50-9 | Octadecanoic acid, reaction products with 2-[(2-aminoethyl)amino]ethanol
68909-77-3 | Ethanol, 2,2'-oxybis-, reaction products with ammonia, morpholine derivs. residues
68915-05-9 | Fatty acids, tall-oil, low-boiling, reaction products with ammonia-ethanolamine reaction by-products
68915-39-9 | Cyclohexane, oxidized, aq. ext., sodium salt
68918-16-1 | Tar, coal, dried and oxidized
68919-17-5 | Hydrocarbons, C12-20, catalytic alkylation by-products
68937-29-1 | 1,6-Hexanediol, distn. residues
68937-69-9 | Carboxylic acids, C6-18 and C5-15-di-
68937-70-2 | Carboxylic acids, C6-18 and C8-15-di-
68937-72-4 | Carboxylic acids, di-, C4-11
68953-80-0 | Benzene, mixed with toluene, dealkylation product
68955-37-3 | Acid chlorides, tallow, hydrogenated
68955-76-0 | Aromatic hydrocarbons, C9-16, biphenyl deriv.-rich
68987-41-7 | Benzene, ethylenated
68987-66-6 | Ethene, hydrated, by-products from
68988-22-7 | 1,4-Benzenedicarboxylic acid, dimethyl ester, manuf. of, by-products from
68990-61-4 | Tar, coal, high-temp., high-solids
68990-65-8 | Fats and Glyceridic oils, vegetable, reclaimed
70084-98-9 | Terpenes and Terpenoids, C10-30, distn. residues
70693-50-4 | Phenol, 2,4-bis(1-methyl-1-phenylethyl)-6-[(2- nitrophenyl)azo]-
70851-08-0 | Amides, coco, N-[3-(dimethylamino)propyl], alkylation products with sodium 3-chloro-2-hydroxypropanesulfonate
71077-05-9 | Ethanol, 2,2'-oxybis-, reaction products with ammonia, morpholine product tower residues
72162-15-3 | 1-Decene, sulfurized
72162-28-8 | 2-Propanone, reaction products with phenol
72854-27-4 | Tannins, reaction products with sodium bisulfite, sodium polysulfide and sodium sulfite
73665-18-6 | Extract residues (coal), tar oil alk., naphthalene distn. residues
83864-02-2 | Nickel, bis[(cyano-C)triphenylborato(1-)-N]bis(hexanedinitrile-N,N')-
84501-86-0 | Hexanedioic acid, esters with high-boiling C6-10-alkene hydroformylation products
90640-80-5 | Anthracene oil
90640-86-1 | Distillates (coal tar), heavy oils
119345-02-7 | Benzene, 1,1'-oxybis-, tetrapropylene derivs.
125997-20-8 | Phosphoric acid, mixed 3-bromo-2,2-dimethylpropyl and 2-bromoethyl and 2-chloroethyl esters

Appendix B—Chemical Abstracts Service Registry Number (CAS No.) and TSCA Inventory Names of HPV Chemicals in the 1998 and 2002 IURs, But Not in the 1990 or 1994 IURs
CAS No. | Chemical name
62-33-9 | Calciate(2-), [[N,N'-1,2-ethanediylbis[N-[(carboxy-.kappa.O)methyl]glycinato-.kappa.N,.kappa.O]](4-)]-, disodium, (OC-6-21)-
65-45-2 | Benzamide, 2-hydroxy-
75-88-7 | Ethane, 2-chloro-1,1,1-trifluoro-
76-05-1 | Acetic acid, trifluoro-
76-16-4 | Ethane, hexafluoro-
79-39-0 | 2-Propenamide, 2-methyl-
88-41-5 | Cyclohexanol, 2-(1,1-dimethylethyl)-, acetate
89-00-9 | 2,3-Pyridinedicarboxylic acid
94-71-3 | Phenol, 2-ethoxy-
95-16-9 | Benzothiazole
96-34-4 | Acetic acid, chloro-, methyl ester
100-48-1 | 4-Pyridinecarbonitrile
102-36-3 | Benzene, 1,2-dichloro-4-isocyanato-
103-29-7 | Benzene, 1,1'-(1,2-ethanediyl)bis-
106-94-5 | Propane, 1-bromo-
107-58-4 | 2-Propenamide, N-(1,1-dimethylethyl)-
109-43-3 | Decanedioic acid, dibutyl ester
109-65-9 | Butane, 1-bromo-
111-29-5 | 1,5-Pentanediol
111-57-9 | Octadecanamide, N-(2-hydroxyethyl)-
112-61-8 | Octadecanoic acid, methyl ester
115-25-3 | Cyclobutane, octafluoro-
118-96-7 | Benzene, 2-methyl-1,3,5-trinitro-
119-07-3 | 1,2-Benzenedicarboxylic acid, decyl octyl ester
119-53-9 | Ethanone, 2-hydroxy-1,2-diphenyl-
121-32-4 | Benzaldehyde, 3-ethoxy-4-hydroxy-
121-43-7 | Boric acid (H3BO3), trimethyl ester
123-00-2 | 4-Morpholinepropanamine
135-57-9 | Benzamide, N,N'-(dithiodi-2,1-phenylene)bis-
136-99-2 | 1H-Imidazole-1-ethanol, 4,5-dihydro-2-undecyl-
138-86-3 | Cyclohexene, 1-methyl-4-(1-methylethenyl)-
139-07-1 | Benzenemethanaminium, N-dodecyl-N,N-dimethyl-, chloride
139-08-2 | Benzenemethanaminium, N,N-dimethyl-N-tetradecyl-, chloride
140-07-8 | Ethanol, 2,2',2'',2'''-(1,2-ethanediyldinitrilo)tetrakis-
141-01-5 | 2-Butenedioic acid (2E)-, iron(2+) salt (1:1)
142-87-0 | Sulfuric acid, monodecyl ester, sodium salt
335-42-2 | Butanoyl fluoride, heptafluoro-
354-33-6 | Ethane, pentafluoro-
420-46-2 | Ethane, 1,1,1-trifluoro-
431-89-0 | Propane, 1,1,1,2,3,3,3-heptafluoro-
497-39-2 | Phenol, 2,4-bis(1,1-dimethylethyl)-5-methyl-
504-63-2 | 1,3-Propanediol
565-62-8 | 3-Penten-2-one, 3-methyl-
584-08-7 | Carbonic acid, dipotassium salt
597-09-1 | 1,3-Propanediol, 2-ethyl-2-nitro-
598-55-0 | Carbamic acid, methyl ester
611-20-1 | Benzonitrile, 2-hydroxy-
612-00-0 | Benzene, 1,1'-ethylidenebis-
624-54-4 | Propanoic acid, pentyl ester
628-87-5 | Acetonitrile, 2,2'-iminobis-
677-21-4 | 1-Propene, 3,3,3-trifluoro-
826-36-8 | 4-Piperidinone, 2,2,6,6-tetramethyl-
837-08-1 | Phenol, 2-[1-(4-hydroxyphenyl)-1-methylethyl]-
865-47-4 | 2-Propanol, 2-methyl-, potassium salt
941-69-5 | 1H-Pyrrole-2,5-dione, 1-phenyl-
980-26-7 | Quino[2,3-b]acridine-7,14-dione, 5,12-dihydro-2,9-dimethyl-
1071-22-3 | Propanenitrile, 3-(trichlorosilyl)-
1076-97-7 | 1,4-Cyclohexanedicarboxylic acid
1112-39-6 | Silane, dimethoxydimethyl-
1305-62-0 | Calcium hydroxide (Ca(OH)2)
1313-82-2 | Sodium sulfide (Na2S)
1317-36-8 | Lead oxide (PbO)
1333-82-0 | Chromium oxide (CrO3)
1719-58-0 | Silane, chloroethenyldimethyl-
1737-93-5 | Pyridine, 3,5-dichloro-2,4,6-trifluoro-
1772-25-4 | 1,3,6-Hexanetricarbonitrile
1879-09-0 | Phenol, 2-(1,1-dimethylethyl)-4,6-dimethyl-
2043-53-0 | Decane, 1,1,1,2,2,3,3,4,4,5,5,6,6,7,7,8,8-heptadecafluoro-10-iodo-
2235-00-9 | 2H-Azepin-2-one, 1-ethenylhexahydro-
2374-14-3 | Cyclotrisiloxane, 2,4,6-trimethyl-2,4,6-tris(3,3,3-trifluoropropyl)-
2495-39-8 | 2-Propene-1-sulfonic acid, sodium salt
2687-94-7 | 2-Pyrrolidinone, 1-octyl-
2929-95-5 | Zinc, bis[O,O-bis(1-methylethyl) phosphorodithioato-.kappa.S,.kappa.S']-, (T-4)-
2996-92-1 | Silane, trimethoxyphenyl-
3006-86-8 | Peroxide, cyclohexylidenebis[(1,1-dimethylethyl)
3332-27-2 | 1-Tetradecanamine, N,N-dimethyl-, N-oxide
4067-16-7 | 3,6,9,12-Tetraazatetradecane-1,14-diamine
4193-55-9 | Benzenesulfonic acid, 2,2'-(1,2-ethenediyl)bis[5-[[4-[bis(2-hydroxyethyl)amino]-6-(phenylamino)-1,3,5-triazin-2-yl]amino]-, disodium salt
4292-10-8 | 1-Propanaminium, N-(carboxymethyl)-N,N-dimethyl-3-[(1-oxododecyl)amino]-, inner salt
4342-61-4 | Disilane, 1,2-dichloro-1,1,2,2-tetramethyl-
5205-93-6 | 2-Propenamide, N-[3-(dimethylamino)propyl]-2-methyl-
5333-42-6 | 1-Dodecanol, 2-octyl-
5593-70-4 | 1-Butanol, titanium(4+) salt
5888-33-5 | 2-Propenoic acid, (1R,2R,4R)-1,7,7-trimethylbicyclo[2.2.1]hept-2-ylester, rel-
6144-04-3 | Benzene, (1-methylethenyl)-, dimer
6358-30-1 | Diindolo[3,2-b:3',2'-m]triphenodioxazine, 8,18-dichloro-5,15-diethyl-5,15-dihydro-
6425-39-4 | Morpholine, 4,4'-(oxydi-2,1-ethanediyl)bis-
6528-34-3 | Butanamide, 2-[(4-methoxy-2-nitrophenyl)azo]-N-(2-methoxyphenyl)-3-oxo-
7299-99-2 | Hexanoic acid, 2-ethyl-, 2,2-bis[[(2-ethyl-1-oxohexyl)oxy]methyl]-1,3-propanediyl ester
7378-99-6 | 1-Octanamine, N,N-dimethyl-
7585-20-8 | Acetic acid, zirconium salt
7758-29-4 | Triphosphoric acid, pentasodium salt
7775-11-3 | Chromic acid (H2CrO4), disodium salt
7785-70-8 | Bicyclo[3.1.1]hept-2-ene, 2,6,6-trimethyl-, (1R,5R)-
8008-56-8 | Oils, lemon
8012-95-1 | Paraffin oils
8016-20-4 | Oils, grapefruit
10043-52-4 | Calcium chloride (CaCl2)
10049-04-4 | Chlorine oxide (ClO2)
10124-37-5 | Nitric acid, calcium salt
10192-32-2 | 1-Tetracosene
10213-78-2 | Ethanol, 2,2'-(octadecylimino)bis-
10254-57-6 | Carbamodithioic acid, dibutyl-, methylene ester
12645-50-0 | Iron nickel zinc oxide
15647-08-2 | Phosphorous acid, 2-ethylhexyl diphenyl ester
16424-35-4 | Cyclopentanone, 2-pentylidene-
17462-58-7 | Carbonochloridic acid, 1-methylpropyl ester
18172-67-3 | Bicyclo[3.1.1]heptane, 6,6-dimethyl-2-methylene-, (1S,5S)-
21850-44-2 | Benzene, 1,1'-(1-methylethylidene)bis[3,5-dibromo-4-(2,3-dibromopropoxy)-
22047-49-0 | Octadecanoic acid, 2-ethylhexyl ester
22890-11-5 | Decanamide, N-[3-(dimethylamino)propyl]-
23778-52-1 | 2,5,8,11,14-Pentaoxahexadecan-16-ol
25103-52-0 | Isooctanoic acid
25168-21-2 | 2-Butenoic acid, 4,4'-[(dibutylstannylene)bis(oxy)]bis[4-oxo-, diisooctyl ester, (2Z,2'Z)-
25446-78-0 | Ethanol, 2-[2-[2-(tridecyloxy)ethoxy]ethoxy]-, hydrogen sulfate, sodium salt
26142-30-3 | Poly[oxy(methyl-1,2-ethanediyl)], .alpha.-(oxiranylmethyl)-.omega.-(oxiranylmethoxy)-
26628-22-8 | Sodium azide (Na(N3))
27460-02-2 | Phosphoric acid, dodecyl diphenyl ester
28510-23-8 | Hexanoic acid, 2-ethyl-, 2,2-dimethyl-1,3-propanediyl ester
28768-32-3 | Oxiranemethanamine, N,N'-(methylenedi-4,1-phenylene)bis[N-(oxiranylmethyl)-
29911-27-1 | 2-Propanol, 1-(1-methyl-2-propoxyethoxy)-
30525-89-4 | Paraformaldehyde
35541-81-2 | 1,4-Cyclohexanedimethanol, dibenzoate
37717-68-3 | Methanesulfonamide, N-[2-[ethyl(3-methylphenyl)amino]ethyl]-
38900-29-7 | Nonanedioic acid, dilithium salt
38916-42-6 | Aspartic acid, N-(3-carboxy-1-oxo-3-sulfopropyl)-N-octadecyl-, tetrasodium salt
39278-27-8 | Lignosulfonic acid, barium salt
39421-75-5 | Guar gum, 2-hydroxypropyl ether
40039-93-8 | Phenol, 4,4'-(1-methylethylidene)bis[2,6-dibromo-, polymer with (chloromethyl)oxirane
41556-26-7 | Decanedioic acid, bis(1,2,2,6,6-pentamethyl-4-piperidinyl) ester
48145-04-6 | 2-Propenoic acid, 2-phenoxyethyl ester
50594-66-6 | Benzoic acid, 5-[2-chloro-4-(trifluoromethyl)phenoxy]-2-nitro-
54464-57-2 | Ethanone, 1-(1,2,3,4,5,6,7,8-octahydro-2,3,8,8-tetramethyl-2-naphthalenyl)-
56046-62-9 | Methanesulfonamide, N-[2-[ethyl(3-methyl-4-nitrosophenyl)amino]ethyl]-
57499-57-7 | Ethanone, 1-[1,6-dimethyl-4-(4-methyl-3-pentenyl)-3-cyclohexen-1-yl]-
58965-66-5 | Benzene, 1,2,4,5-tetrabromo-3,6-bis(pentabromophenoxy)-
60506-81-2 | 2-Propenoic acid, 2-[[3-hydroxy-2,2-bis[[(1-oxo-2-propenyl)oxy]methyl]propoxy]methyl]-2-[[(1-oxo-2-propenyl)oxy]methyl]-1,3-propanediyl ester
61788-93-0 | Amines, coco alkyldimethyl
61791-38-6 | 1H-Imidazole-1-ethanol, 4,5-dihydro-, 2-norcoco alkyl derivs.
64742-76-3 | Naphthenic oils (petroleum), complex dewaxed light
64742-99-0 | Residual oils (petroleum), oxidized
64754-94-5 | Fatty acids, tall-oil, compds. with polyethylenepolyamine-tall-oil fatty acid reaction products
67700-81-6 | Linseed oil, polymer with isophthalic acid and trimethylolpropane
67762-63-4 | Fatty acids, tall-oil, Bu esters
67774-69-0 | Urea, N,N''-(methylenedi-4,1-phenylene)bis-, N',N'''-ditallow alkyl derivs.
67784-80-9 | Soybean oil, Me ester
67989-61-1 | Linseed oil, polymer with isophthalic acid and pentaerythritol
68037-30-9 | 2-Butenedioic acid (2E)-, reaction products with linoleic acid
68052-23-3 | 1,3-Pentanediol, 2,2,4-trimethyl-, dibenzoate
68082-79-1 | Lard, oil, polymd., oxidized
68130-15-4 | Guar gum, carboxymethyl 2-hydroxypropyl ether, sodium salt
68130-50-7 | 1,2,4-Benzenetricarboxylic acid, mixed decyl and hexyl and octyl esters
68140-11-4 | 1H-Imidazole-1-ethanamine, 4,5-dihydro-, 2-nortall-oil alkyl derivs., acetates
68153-81-1 | Grease
68154-05-2 | Asphalt, sapon. products with tall oil, sodium salts
68188-26-1 | Amines, tallow alkyl, reaction products with asphalt, hydrochlorides
68308-02-1 | Tail gas (petroleum), distn., hydrogen sulfide-free
68308-09-8 | Tail gas (petroleum), light straight-run naphtha stabilizer, hydrogen sulfide-free
68309-30-8 | Fatty acids, tallow, hydrogenated, sodium salts
68424-26-0 | Fatty acids, C16-18 and C18-unsatd., sodium salts
68424-40-8 | Fatty acids, C18-unsatd., dimers, bis(2-ethylhexyl) esters
68424-75-9 | Sulfonic acids, lard-oil, polymd., oxidized, sodium salts
68425-15-0 | Polysulfides, di-tert-dodecyl
68441-44-1 | Boric acid, reaction products with ethylene glycol and polyethyleneglycol mono-Me ether
68441-94-1 | Heptanoic acid, mixed esters with pentaerythritol and valeric acid
68442-09-1 | Naphthalenesulfonic acid, sodium salt, isopropylated
68442-22-8 | Phosphorodithioic acid, mixed O,O-bis(2-ethylhexyl and iso-Bu) esters, zinc salts
68475-70-7 | Aromatic hydrocarbons, C6-8, naphtha-raffinate pyrolyzate-derived
68477-40-7 | Distillates (petroleum), cracked stripped steam-cracked petroleum distillates, C10-12 fraction
68515-73-1 | D-Glucopyranose, oligomeric, decyl octyl glycosides
68527-29-7 | Tall oil, disproportionated, potassium salt
68568-82-1 | Phenol, 2,2'-[[[(2-hydroxy-5-octylphenyl)methyl]imino]bis(2,1-ethanediyliminomethylene)]bis[4-octyl-, calcium salt
68584-26-9 | Benzenesulfonic acid, C10-16-alkyl derivs., magnesium salts
68603-03-2 | Distillates (petroleum), thermal cracked naphtha and gas oil, extractive
68603-04-3 | Gas oils (petroleum), heavy vacuum, sulfonated
68603-21-4 | Alcohols, C10-16, ethers with polyethylene glycol monobenzyl ether
68608-66-2 | Acetic acid, chloro-, sodium salt, reaction products with 4,5-dihydro-2-undecyl-1H-imidazole-1-ethanol and sodium hydroxide
68647-61-0 | Hydrocarbons, C4-5, tert-amylene concentrator by-product
68814-88-0 | Distillates (petroleum), heavy naphthenic, sulfurized
68815-21-4 | Tar acids, cresylic, sodium salts, caustic solns.
68890-70-0 | Sulfuric acid, mono-C12-15-alkyl esters, sodium salts
68909-20-6 | Silanamine, 1,1,1-trimethyl-N-(trimethylsilyl)-, hydrolysis products with silica
68909-92-2 | Phosphorodithioic acid, mixed O,O-bis(2-ethylhexyl and iso-Pr) esters
68909-93-3 | Phosphorodithioic acid, mixed O,O-bis(2-ethylhexyl and iso-Pr) esters, zinc salts
68918-39-8 | Soaps, stocks, C8-18 and C18-unsatd. alkyl, acidulated
68919-00-6 | Gases (petroleum), dehexanizer off
68919-76-6 | Fatty acids, tall-oil, reaction products with 2-[(2-aminoethyl)amino]ethanol
68920-07-0 | Hydrocarbons, C<10-linear
68938-96-5 | Benzene, phenoxytetrapropylene-
68956-55-8 | Hydrocarbons, C5-unsatd.
68988-45-4 | Phosphorodithioic acid, mixed O,O-bis(2-ethylhexyl and iso-Bu and pentyl) esters, zinc salts
69012-26-6 | Slags, brass-manufg.
70225-05-7 | 1,2,4-Benzenetricarboxylic acid, mixed branched tridecyl and isodecyl esters
70693-30-0 | 1,2-Benzenedicarboxylic acid, mixed decyl and lauryl and octyl diesters
71808-39-4 | Fatty acids, C16-18 and C18-unsatd., dimerized
72318-87-7 | Phenol, [[[3-(dimethylamino)propyl]amino]methyl]-, isobutylenated
72749-59-8 | Quaternary ammonium compounds, tri-C6-12-alkylmethyl, chlorides
73170-89-5 | 13-Docosenenitrile, (13Z)-
73692-68-9 | Hexadecanoic acid, compd. with N,N-dimethyl-1-octadecanamine (1:1)
80443-63-6 | Oxirane, 2-[2-(4-chlorophenyl)ethyl]-2-(1,1-dimethylethyl)-
83682-78-4 | 1-Propanaminium, 3,3',3''-[phosphinylidynetris(oxy)]tris[N-(3-aminopropyl)-2-hydroxy-N,N-dimethyl-, N,N',N''-tri-C6-18 acyl derivs. trichlorides
84268-33-7 | Benzenepropanoic acid, 3-(2H-benzotriazol-2-yl)-5-(1,1-dimethylethyl)-4-hydroxy-, methyl ester
84605-23-2 | Formaldehyde, reaction products with (1-methylhexyl)phenol, calciumsalts
84632-65-5 | Pyrrolo[3,4-c]pyrrole-1,4-dione, 3,6-bis(4-chlorophenyl)-2,5-dihydro-
84962-08-3 | Phenol, dinonyl-, branched
90194-45-9 | Benzenesulfonic acid, mono-C10-13-alkyl derivs., sodium salts
91125-43-8 | Nonanoic acid, sulfophenyl ester, sodium salt
92045-58-4 | Naphtha (petroleum), isomerization, C6-fraction
93762-80-2 | Alkenes, C15-18
93924-10-8 | Alkenes, C20-24 .alpha.-
93924-11-9 | Alkenes, C24-28 .alpha.-
95251-52-8 | Benzoic acid, 3-[2-chloro-4-(trifluoromethyl)phenoxy]-, sodium salt
96152-48-6 | Phosphorous acid, (1-methylethylidene)di-4,1-phenylene tetra-C12-15-alkyl esters
101316-73-8 | Lubricating oils (petroleum), used, noncatalytically refined
101646-62-2 | Benzene, (1-methylpropyl)(1-phenylethyl)-
101646-63-3 | Benzene, (1-methylpropyl)(phenylmethyl)-
110615-47-9 | D-Glucopyranose, oligomeric, C10-16-alkyl glycosides
111163-74-7 | Distillates (petroleum), catalytic reformer fractionator residue, low-boiling, sulfonated, sodium salts
119345-01-6 | Phosphorous trichloride, reaction products with 1,1'-biphenyl and 2,4-bis(1,1-dimethylethyl)phenol
120525-96-4 | Octadecanoic acid, C11-14-isoalkyl esters, C13-rich
125643-61-0 | Benzenepropanoic acid, 3,5-bis(1,1-dimethylethyl)-4-hydroxy-, C7-9-branched alkyl esters
131459-42-2 | Alkenes, C24-54-branched and linear .alpha.-
134440-55-4 | Benzenepropanoic acid, 3-(1,1-dimethylethyl)-4-hydroxy-5-[(2-nitrophenyl)azo]-, methyl ester
142828-65-7 | Benzene, (1-methylpropyl)(2-phenylethyl)-
145804-94-0 | Benzenepropanoic acid, 3,5-bis(1,1-dimethylethyl)-4-hydroxy-, methyl ester, reaction products with sodium hydrogen sulfate
149458-07-1 | Fatty acids, C12-18, Me esters, sulfonated, sodium salts
150135-58-3 | 1,4-Benzenedicarboxylic acid, reaction products with 1,4-cyclohexanedimethanol, diethylene glycol, di-Me terephthalate and ethylene glycol
157905-74-3 | Ethanaminium, 2-hydroxy-N,N-bis(2-hydroxyethyl)-N-methyl-, esters with C16-18 and C18-unsatd. fatty acids, Me sulfates (salts)
162030-42-4 | 1,4-Benzenedicarboxylic acid, di-C11-14-isoalkyl esters, C13-rich
163292-61-3 | Fatty acids, C16-18 and C18-unsatd., esters with 2,2'-(methylimino)bis[ethanol]
163702-08-7 | Propane, 2-(difluoromethoxymethyl)-1,1,1,2,3,3,3-heptafluoro-
174333-80-3 | Benzaldehyde, 2-hydroxy-5-nonyl-, oxime, branched
178535-25-6 | Benzene, ethylenated, residues, distn. lights
203742-97-6 | Formaldehyde, reaction products with branched 4-nonylphenol and 1-dodecanethiol
210555-94-5 | Phenol, 4-dodecyl-, branched

[FR Doc. 05-21197 Filed 10-21-05; 8:45 am]

BILLING CODE 6560-50-S